DEPARTMENT OF HOMELAND SECURITY

Coast Guard

[USCG-2010-0276]

Commercial Fishing Industry Vessel Safety Advisory Committee; Meeting

AGENCY: Coast Guard, DHS.

ACTION: Notice of meeting.

SUMMARY: The Commercial Fishing Industry Vessel Safety Advisory Committee (CFIVSAC) will meet in Oakland, CA, to discuss various issues relating to commercial vessel safety in the fishing industry. This meeting will be open to the public.

DATES: The Committee will meet on May 11-13, 2010, from 8 a.m. to 5 p.m. each day. This meeting may close early if all business is finished.

Written material and requests to make oral presentations should reach the Coast Guard on or before April 23, 2010. Requests to have a copy of your material distributed to each member of the committee should also reach the Coast Guard on or before April 23, 2010.

ADDRESSES: The Committee will meet at the Waterfront Hotel, 10 Washington Street, Oakland, CA 94607. (510-836-3800, http://www.waterfronthoteloakland.com.)

Send written material and requests to make oral presentations via mail to Captain Eric P. Christensen, Designated Federal Officer (DFO) of CFIVSAC, United States Coast Guard, Office of Vessel Activities (CG-543), 2100 2nd Street, SW., Washington, DC 20593-7581. This notice and documents identified in the Supplementary Information section as being available in the docket may be viewed in our online docket, USCG-2010-0276, at http://www.regulations.gov.

FOR FURTHER INFORMATION CONTACT: Mr. Jack Kemerer, Assistant to the DFO of CFIVSAC, by telephone at 202-372-1249, fax 202-372-1917, e-mail: Jack.A.Kemerer@uscg.mil.

SUPPLEMENTARY INFORMATION: Notice of this meeting is given under the Federal Advisory Committee Act, 5 U.S.C. App. (Pub. L. 92-463).

Agenda of Meeting

The agenda for the CFIVSAC meeting is as follows:

(1) Introductions and comments.

(2) Updates on Coast Guard Commercial Fishing Vessel Safety activities, pending legislation affecting commercial fishing vessels, and status report on the Commercial Fishing Vessel Safety Rulemaking.

(3) Commercial Fishing Vessel Safety District Coordinator reports.

(4) Industry updates.

(5) Report of ongoing research work and safety related projects by the National Institute for Occupational Safety and Health (NIOSH).

(6) Comments from the public.

(7) Discussions and working group sessions by the Communications and Risk Management Subcommittees, and others that may be established, on current program strategies, future plans, recommendations to the Coast Guard, and goals for CFIVSAC.

Procedural

The CFIVSAC meeting is open to the public. Please note that from 8-9 a.m. on the first day of the meeting, May 11, 2010, the committee members will meet to discuss administrative matters, including member training. This one-hour meeting on administrative matters is for committee members only in accordance with 41 CFR 102.3-160; the CFIVSAC meeting will commence at 9 a.m. on May 11, 2010. Please note, also, the meeting may close early if all business is finished.

At the Chair's discretion, members of the public may make presentations during the meeting. If you would like to make an oral presentation at the meeting, please send a request to the DFO no later than April 23, 2010. Written material for distribution at the meeting should reach the DFO no later than April 23, 2010. If you would like a copy of your material distributed to each member of the committee in advance of the meeting, please submit 20 copies to the DFO no later than April 23, 2010. All requests and materials must be sent via mail as described in ADDRESSES.

Information on Services for Individuals With Disabilities

For information on facilities or services for individuals with disabilities, or to request special assistance at the meeting, contact the DFO as soon as possible, but no later than April 30, 2010.

Dated: April 12, 2010.
J.G. Lantz,
Director of Commercial Regulations and Standards.

[FR Doc. 2010-8857 Filed 4-16-10; 8:45 am]

BILLING CODE 9110-04-P